DEPARTMENT OF ENERGY

Federal Energy Regulatory Commission

[Docket No. EC01-66-000, et al.]

Nevada Power Company, et al.; Electric Rate and Corporate Filings

January 19, 2005.

The following filings have been made with the Commission. The filings are listed in ascending order within each docket classification.

1. Nevada Power Company, Reid Gardner Power LLC and Clark Power LLC; Nevada Power Company and Reliant Energy Sunrise LLC

[Docket Nos. EC01-66-000 and EC01-73-000]

Take notice that on September 25, 2003, Nevada Power Company (Nevada Power) filed a motion to terminate the proceedings in the above-referenced docket numbers.

Comment Date: 5 p.m. Eastern Time on February 9, 2005.

2. Liberty Electric Power, LLC

[Docket Nos. EC05-37-000 and ER01-2398-009]

Take notice that on January 13, 2005, Liberty Electric Power, LLC (Applicant) submitted an application pursuant to section 203 of the Federal Power Act for authorization for disposition of jurisdictional facilities relating to the transfer of membership interests in Liberty's indirect upstream owner, LEP Holdings, LLC (LEP Holdings) to several financial institutions and other financial investors or their special purpose affiliates (collectively, New Investors) and the transfer of a managing membership interest in LEP Holdings to Tyr Energy, Inc. (Tyr) or one of its affiliates or another entity which will meet the criteria set forth in the Application.

Applicant states that it owns an approximately 567.7 MW combined cycle gas-fueled electric generating plant located in the Borough of Eddystone, Delaware County, Pennsylvania. Applicant also filed a notice of change in status in the above-captioned rate docket with respect to the proposed transfers of interests in LEP Holdings.

Comment Date: 5 p.m. Eastern Time on February 3, 2005.

3. Rainy River Energy Corporation and Constellation Energy Commodities Group, Inc.

[Docket No. EC05-39-000]

Take notice that on January 14, 2005, Rainy River Energy Corporation (Rainy River) and Constellation Energy Commodities Group, Inc. (CCG) filed an application pursuant to section 203 of the Federal Power Act seeking authorization for Rainy River to transfer to CCG two power sales agreements. Rainy River and CCG state that they are power marketers with market-based rate tariffs on file with the Commission.

Comment Date: 5 p.m. Eastern Time on February 4, 2005.

4. River Hill Power Company, LLC

[Docket No. EG05-30-000]

Take notice that on January 12, 2005, River Hill Power Company, LLC (RHPC), with a principal place of business at 335 Madison Avenue, 28th Floor, New York, NY 10017, filed with the Commission an application for determination of exempt wholesale generator status pursuant to Part 365 of the Commission's regulations.

RHPC states that it is a wholly owned subsidiary of RCG River Hill, LLC and that it intends to construct, own, and operate a nominal 290 MW waste coal-fired electricity and steam generating plant at a site in Karthaus Township, Clearfield County, Pennsylvania.

Comment Date: 5 p.m. Eastern Time on February 2, 2005.

5. The Empire District Electric Company

[Docket No. ER99-1757-007]

Take notice that on January 12, 2005, The Empire District Electric Company (Empire District), submitted additional responses and data pursuant to the Commission's deficiency letter order dated November 24, 2004 in Docket No. ER99-1757-005, as an amendment to the September 27, 2004 filing of Empire District's generation market power study.

Comment Date: 5 p.m. Eastern Time on February 2, 2005.

6. Split Rock Energy LLC

[Docket No. ER00-1857-005]

Take notice that on January 12, 2005, Split Rock Energy LLC (Split Rock) supplemented its triennial review originally submitted on November 9, 2004 in Docket No. ER00-1857-004 pursuant to the Commission's order issued May 13, 2004 in Docket No. ER02-1406-001, et al., 107 FERC ¶ 61,168 (2004).

Comment Date: 5 p.m. Eastern Time on February 2, 2005.

7. Ameren Energy Development Company

[Docket Nos. ER01-294-003); Ameren Energy Generating Company (Docket No. ER00-3412-004); Ameren Energy Marketing Company (Docket No. ER00-816-002); AmerenEnergy Medina Valley Cogen, LLC (Docket No. ER04-8-003); AmerenEnergy Resources Generating Company (Docket No. ER04-53-004); Central Illinois Light Company (Docket No. ER98-2440-004); Central Illinois Public Service Company (Docket No. ER98-3285-001); Union Electric Company (Docket No. ER00-2687-003]

Take notice that on December 27, 2004, Ameren Services Company, on behalf of the above-listed affiliates and subsidiaries of Ameren Corporation, submitted an updated market power analysis in compliance with Commission orders in AEP Power Marketing, Inc., et al., 107 FERC ¶ 61,018 (2004), order on reh'g, 108 FERC ¶ 61,026 (2004).

Comment Date: 5 p.m. Eastern Time on January 26, 2005.

8. Ameren Energy Development Company

[Docket Nos. ER01-294-004); Ameren Energy Generating Company (Docket No. ER00-3412-005); Ameren Energy Marketing Company (Docket No. ER00-816-003); AmerenEnergy Medina Valley Cogen, LLC (Docket No. ER04-8-004); Central Illinois Light Company (Docket No. ER98-2440-005); Central Illinois Public Service Company (Docket No. ER98-3285-002); Union Electric Company (Docket No. ER00-2687-004]

Take notice that on December 27, 2004, Ameren Services Company, on behalf of the above-listed affiliates and subsidiaries of Ameren Corporation, submitted updated and revised market-based rate tariffs and rate schedules in compliance with the Commission's orders in Investigation of Terms and Conditions of Public Utility Market-Based Rate Authorizations, 105 FERC ¶ 61,218 (2003), order on reh'g, 107 FERC ¶ 61,175 (2004).

Comment Date: 5 p.m. Eastern Time on January 26, 2005.

9. Williams Power Company, Inc.

[Docket No. ER05-44-001]

Take notice that on January 12, 2005, Williams Power Company, Inc. (Williams) filed amended pages to the reliability must-run agreements between Williams and the California Independent System Operator Corporation for the Alamitos and Huntington Beach Generation Units.

Comment Date: 5 p.m. Eastern Time on February 2, 2005.

10. Virginia Electric and Power Company

[Docket No. ER05-74-001]

Take notice that on January 12, 2005, Virginia Electric and Power Company (Dominion Virginia Power) tendered for filing an executed Standard Large Generator Interconnection Agreement (LGIA) with Five Forks Energy Associates, LLC (Five Forks) and its response to the Commission's deficiency letter issued December 15, 2004 in Docket No. ER05-74-000. Dominion Virginia Power states that the executed LGIA replaces the unexecuted LGIA that was filed in these proceedings on October 26, 2004. Dominion Virginia Power requests an effective date of January 13, 2005.

Dominion Virginia Power states that copies of the filing were served on the parties on the Commission's official service list in these proceedings, Five Forks and the Virginia State Corporation Commission.

Comment Date: 5 p.m. Eastern Time on February 2, 2005.

11. Northeast Energy Associates, a Limited Partnership

[Docket No. ER05-236-002]

Take notice that on January 14, 2005, Northeast Energy Associates, a Limited Partnership submitted a supplement to the application for market-based rate authority filed on November 18, 2004, which clarifies that it does not intend to retain its qualifying facility status.

Northeast Energy Associates states that copies of the filing were served upon the Florida Public Service Commission.

Comment Date: 5 p.m. Eastern Time on January 24, 2005.

12. Westbank Energy Capital LLC

[Docket No. ER05-294-001]

Take notice that on January 13, 2005, Westbank Energy Capital, LLC (Westbank) submitted an amendment to its petition filed December 6, 2004 in Docket No. ER05-294-000 for acceptance of Westbank's Rate Schedule FERC No. 1; the granting of certain blanket approvals, including the authority to sell electricity at market-based rates; and the waiver of certain Commission regulations.

Comment Date: 5 p.m. Eastern Time on February 3, 2005.

13. Spokane Energy, LLC

[Docket No. ER05-310-001]

Take notice that on January 12, 2005, Spokane Energy, LLC (Spokane Energy) filed with the Commission proposed revisions to its First Revised Rate Schedule FERC No. 1, which was originally filed on December 7, 2004 in Docket No. ER05-310-000.

Comment Date: 5 p.m. Eastern Time on February 2, 2005.

14. Avista Turbine Power, Inc.

[Docket No. ER05-311-001]

Take notice that on January 12, 2005, Avista Turbine Power, Inc. (Avista Turbine) filed with the Commission proposed revisions to its First Revised Rate Schedule No. 1, which was originally filed on December 7, 2005 in Docket No. ER05-311-000.

Comment Date: 5 p.m. Eastern Time on February 2, 2005.

15. San Diego Gas & Electric Company

[Docket No. ER05-354-001]

Take notice that on December 28, 2004, San Diego Gas & Electric Company (SDG&E) tendered for filing an amendment to its December 17, 2004 filing of changes to its Transmission Owner Tariff Reliability Services Rates.

SDG&E states that copies of the filing have been served on the California Public Utilities Commission and the California Independent System Operator.

Comment Date: 5 p.m. Eastern Time on January 31 , 2005.

16. Sempra Generation

[Docket No. ER05-440-000]

Take notice that on January 12, 2005, Sempra Generation submitted a notice of succession pursuant to section 35.16 of the Commission's Regulations to reflect a corporate name change from Sempra Energy Resources to Sempra Generation, effective January 1, 2005.

Comment Date: 5 p.m. Eastern Time on February 2, 2005.

17. American Electric Power Service Corporation

[Docket No. ER05-441-000]

Take notice that on January 12, 2005, the American Electric Power Service Corporation (AEPSC), tendered for filing notices of cancellation of Service Agreement Nos. 317 and 318 under the Operating Companies of the American Electric Power System's FERC Electric Tariff, Third Revised Volume No. 6, for firm and non-firm point-to-point transmission service agreements for Entergy-Koch Trading, LP. AEPSC requests an effective date of January 1, 2005.

AEPSC states that a copy of the filing was served on the Parties and the state utility regulatory commissions of Arkansas, Indiana, Kentucky, Louisiana, Michigan, Ohio, Oklahoma, Tennessee, Texas, Virginia and West Virginia.

Comment Date: 5 p.m. Eastern Time on February 2, 2005.

18. Condon Wind Power, LLC

[Docket Nos. ER05-442-000 and ER02-305-003); AES Alamitos, LLC (Docket No. ER98-2185-008); AEE 2, LLC (Docket No. ER99-2284-004); AES Creative Resources, LP and AES Eastern Energy, LP (Docket No. ER99-1773-004); Indianapolis Power & Light Company (Docket No. ER00-1026-009); AES Ironwood, LLC (Docket No. ER04-1010-002); AES Red Oak, LLC (Docket No. ER01-2401-003); AES Huntington Beach, LLC (Docket No. ER98-2184-008); AES Redondo Beach, LLC (Docket No. ER98-2186-008); AES Placerita, Inc. (Docket No. ER00-33-006); AES Delano, Inc. (Docket No. ER03-1207-002]

Take notice that on January 12, 2005, the above-captioned entities (collectively, Applicants) tendered for filing an amendment to the tariff of Condon Wind Power, LLC (Condon), and a notice of change in status. Applicants state that the amendment to the Condon's tariff and the notice of change in status are intended to reflect a transaction in which SeaWest Holdings, Inc., which owns a 38.9 percent managing interest in Condon, will be acquired by a subsidiary of AES Corporation, the parent of the other Applicants.

Comment Date: 5 p.m. Eastern Time on February 2, 2005.

19. Transmission Owners of the Midwest Independent Transmission System Operator, Inc.

[Docket No. ER05-447-000]

Take notice that on January 13, 2005, the Transmission Owners of the Midwest Independent Transmission System Operator (Midwest ISO Transmission Owners) submitted for filing a rate schedule change concerning the direct recovery of Midwest ISO Schedule 10 and 17 costs assessed to Carved-Out Grandfathered Agreements by the Midwest ISO to the transmission owners.

The Midwest ISO Transmission Owners state that this filing will be served on all affected customers and on all applicable state commissions and that the filing will be posted on the Midwest ISO's home page.

Comment Date: 5 p.m. Eastern Time on February 3, 2005.

20. Arizona Public Service Company

[Docket No. ER05-448-000]

Take notice that on January 13, 2005, Arizona Public Service Company (APS) tendered for filing revisions to its open access transmission tariff in order to comply with Order 2003-B issued December 20, 2004 in Docket No. RM02-1-005.

APS states that a copy of the transmittal letter has been served on all parties listed on the Service List and that copies of the complete filing can be found on APS' OASIS at http://www.oatioasos.com\azps\index.

Comment Date: 5 p.m. Eastern Time on February 3, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-315 Filed 1-27-05; 8:45 am]

BILLING CODE 6717-01-P